DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of 30 foreign individuals and 44 foreign entities whose property and interests in property have been blocked pursuant to the Foreign Narcotics Kingpin Designation Act (“Kingpin Act”) (21 U.S.C. 1901-1908, 8 U.S.C. 1182). In addition, OFAC is publishing the name of one U.S. entity that has been identified as blocked property pursuant to the Kingpin Act.

DATES: The designation by the Director of OFAC of 30 foreign individuals and 44 foreign entities and the identification of one U.S. entity as blocked property listed in this notice pursuant to section 805(b) of the Kingpin Act is effective on February 23, 2011.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treasury.gov/ofac) or via facsimile through a 24-hour fax-on-demand service, tel.: (202) 622-0077.

Background

The Kingpin Act became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On February 23, 2011, the Director of OFAC designated 30 foreign individuals and 44 foreign entities whose property and interests in property are blocked pursuant to section 805(b) of the Foreign Narcotics Kingpin Designation Act. In addition, the Director of OFAC also identified one U.S. entity as blocked property pursuant to section 805(b) of the Foreign Narcotics Kingpin Designation Act.

The list of these designees is as follows:

Foreign Individuals

1. ALVAREZ ZEPEDA, Alfredo (a.k.a. ONTIVEROS RIOS, Gabino; a.k.a. RODRIGO ALVAREZ, Sacarias), Boulevard Jesus Kumate Rodriguez, Kilometro 2 Edificio 2, Colonia Rincon del Valle, Culiacan, Sinaloa C.P. 80155, Mexico; C. Paloma 903, Col. Fatima, Durango, Durango C.P. 34080, Mexico; Calle Loc Cospita S/N, Colonia Loc Cospita, Culiacan, Sinaloa C.P. 80000, Mexico; Colonia San Jose del Barranco, Badiraguato, Sinaloa, Mexico; DOB 12 Sep 1977; alt. DOB 19 Feb 1981; POB Culiacan, Sinaloa, Mexico; alt. POB Vicente Guerrero, Durango, Mexico; C.U.R.P. OIRG810219HSLNSB09 (Mexico); alt. C.U.R.P. ROAS770912HDGDLC02 (Mexico); Credencial electoral RDALSC77091210H700 (Mexico); R.F.C. OIRG810219GGA (Mexico) (individual) [SDNTK]

2. BASTO DELGADO, Irma Mery, c/o C.I. DISTRIBUIDORA DE SERVICIOS COMBUSTIBLES Y MINERIA S.A., Bogota, Colombia; c/o C.I. OKCOFFEE COLOMBIA S.A., Bogota, Colombia; c/o C.I. OKCOFFEE INTERNATIONAL S.A., Bogota, Colombia; c/o CUBICAFE S.A., Bogota, Colombia; c/o FUNDACION PARA EL BIENESTAR Y EL PORVENIR, Medellin, Colombia; c/o HOTELES Y BIENES S.A., Bogota, Colombia; c/o UNION DE CONSTRUCTORES CONUSA S.A., Bogota, Colombia; DOB 5 Apr 1967; Cedula No. 20904590 (Colombia) (individual) [SDNTK]

3. CIFUENTES OSORIO, Jorge Andres, c/o BIO FORESTAL S.A., Medellin, Colombia; c/o C.I. DISTRIBUIDORA DE SERVICIOS COMBUSTIBLES Y MINERIA S.A., Bogota, Colombia; c/o C.I. OKCOFFEE COLOMBIA S.A., Bogota, Colombia; c/o C.I. OKCOFFEE INTERNATIONAL S.A., Bogota, Colombia; c/o FUNDACION PARA EL BIENESTAR Y EL PORVENIR, Medellin, Colombia; c/o GANADERIA LA SORGUITA S.A., Medellin, Colombia; c/o HOTELES Y BIENES S.A., Bogota, Colombia; c/o INVERPUNTO DEL VALLE S.A., Cali, Colombia; c/o INVERSIONES CIFUENTES Y CIA. S. EN C., Medellin, Colombia; c/o PARQUES TEMATICOS S.A., Medellin, Colombia; c/o PROMO RAIZ S.A., Medellin, Colombia; c/o UNION DE CONSTRUCTORES CONUSA S.A., Bogota, Colombia; Carrera 48B No. 10 Sur-76, Medellin, Colombia; DOB 29 Mar 1985; POB Medellin, Colombia; Cedula No. 80796876 (Colombia) (individual) [SDNTK]

4. CIFUENTES VILLA, Dolly de Jesus, c/o C.I. GLOBAL INVESTMENTS S.A., Medellin, Colombia; c/o CIFUENTES URIBE Y COMPANIA S.C.S., Medellin, Colombia; c/o ECOVIVERO EL MATORRAL E.U., Medellin, Colombia; c/o ROBLE DE MINAS S.A., Medellin, Colombia; Calle 36AA Sur No. 26A-35, Medellin, Colombia; DOB 14 Jun 1964; Cedula No. 43020313 (Colombia) (individual) [SDNTK]

5. CIFUENTES VILLA, Hector Mario, c/o C.I. GLOBAL INVESTMENTS S.A., Medellin, Colombia; c/o C.I. OKCOFFEE COLOMBIA S.A., Bogota, Colombia; c/o CUBI CAFE CLICK CUBE MEXICO, S.A. DE C.V., Mexico City, Distrito Federal, Mexico; c/o INVERSIONES CIFUENTES Y CIA. S. EN C., Medellin, Colombia; c/o ROBLE DE MINAS S.A., Medellin, Colombia; c/o UNION DE CONSTRUCTORES CONUSA S.A., Bogota, Colombia; DOB 28 Nov 1964; POB Medellin, Colombia; Cedula No. 71653530 (Colombia); Passport AG048125 (Colombia) (individual) [SDNTK]

6. CIFUENTES VILLA, Hildebrando Alexander (a.k.a. CIFUENTES VILLA, Alex), c/o ROBLE DE MINAS S.A., Medellin, Colombia; Calle 16C Sur No. 42-70, Medellin, Colombia; DOB 18 Jan 1968; POB Medellin, Colombia; C.U.R.P. CIVH680118HNEFLL07 (Mexico); Cedula No. 71695565 (Colombia) (individual) [SDNTK]

7. CIFUENTES VILLA, Jorge Milton (a.k.a. LOPEZ SALAZAR, Elkin de Jesus), c/o BIO FORESTAL S.A., Medellin, Colombia; c/o C.I. DISTRIBUIDORA DE SERVICIOS COMBUSTIBLES Y MINERIA S.A., Bogota, Colombia; c/o C.I. METALURGIA EXTRACTIVA DE COLOMBIA S.A.S., Bogota, Colombia; c/o C.I. OKCOFFEE COLOMBIA S.A., Bogota, Colombia; c/o C.I. OKCOFFEE INTERNATIONAL S.A., Bogota, Colombia; c/o CUBICAFE S.A., Bogota, Colombia; c/o CUBI CAFE CLICK CUBE MEXICO, S.A. DE C.V., Mexico City, Distrito Federal, Mexico; c/o DESARROLLO MINERO RESPONSABLE C.I. S.A.S., Bogota, Colombia; c/o DOLPHIN DIVE SCHOOL S.A., Cartagena, Colombia; c/o GANADERIA LA SORGUITA S.A., Medellin, Colombia; c/o FUNDACION OKCOFFEE COLOMBIA, Bogota, Colombia; c/o FUNDACION PARA EL BIENESTAR Y EL PORVENIR, Medellin, Colombia; c/o FUNDACION SALVA LA SELVA, Bogota, Colombia; c/o GANADERIA LA SORGUITA S.A., Medellin, Colombia; c/o GESTORES DEL ECUADOR GESTORUM S.A., Quito, Ecuador; c/o HOTELES Y BIENES S.A., Bogota, Colombia; c/o INVERPUNTO DEL VALLE S.A., Cali, Colombia; c/o INVERSIONES CIFUENTES Y CIA. S. EN C., Medellin, Colombia; c/o LE CLAUDE, S.A. DE C.V., Mexico City, Distrito Federal, Mexico; c/o OPERADORA NUEVA GRANADA, S.A. DE C.V., Mexico City, Distrito Federal, Mexico; c/o LINEA AEREA PUEBLOS AMAZONICOS S.A.S., Bogota, Colombia; c/o PARQUES TEMATICOS S.A., Medellin, Colombia; c/o PROMO RAIZ S.A., Medellin, Colombia; c/o RED MUNDIAL INMOBILIARIA, S.A. DE C.V., Huixquilucan, Estado de Mexico, Mexico; c/o UNION DE CONSTRUCTORES CONUSA S.A., Bogota, Colombia; Avenida Carrera 9 No. 113-52 Of. 401, Bogota, Colombia; Calle 6 No. 33-29 Apto. 801, Medellin, Colombia; Calle 74 No. 10-33 Apto. 806, Bogota, Colombia; Calle Blas Pascal No. 106, Colonia Los Morales, Delegacion Miguel Hidalgo, Mexico City, Distrito Federal C.P. 11510, Mexico; Calle Eje J No. 999 Pasaje Santa Fe, Departamento No. 301, Colonia Ciudad Santa Fe, Delegacion Alvaro Obregon, Mexico City, Distrito Federal C.P. 01210, Mexico; Camino del Remanso, No. 80 A, Planta Baja, Colonia Lomas Country Club, Huixquilucan, Estado de Mexico C.P. 52779, Mexico; Camino del Remanso No. 80 Interior 2, Colonia Lomas Country Club, Huixquilucan, Estado de Mexico C.P. 52779, Mexico; Carrera 8 No. 10-56 Of. 201, Cali, Colombia; Carrera 68D No. 25-10, Lote 41 E/S Terminal, Bogota, Colombia; Carrera 68D No. 25B-86 Of. 504, Bogota, Colombia; Miguel Schultz No. 127, Colonia San Rafael, Delegacion Cuauhtemoc, Mexico City, Distrito Federal C.P. 06470, Mexico; DOB 13 May 1965; alt. DOB 13 Apr 1968; POB Medellin, Colombia; alt. POB Marinilla, Antioquia, Colombia; C.U.R.P. CIVJ650513HNEFLR06 (Mexico); Cedula No. 7548733 (Colombia); alt. Cedula No. 70163752 (Colombia); alt. Cedula No. 172489729-1 (Ecuador); Matricula Mercantil No 181301-1 Cali (Colombia); Matricula Mercantil No 405885 Bogota (Colombia); Passport AL720622 (Colombia); R.F.C. CIVJ650513LJA (Mexico) (individual) [SDNTK]

8. CIFUENTES VILLA, Lucia Ines, c/o C.I. GLOBAL INVESTMENTS S.A., Medellin, Colombia; c/o BIO FORESTAL S.A., Medellin, Colombia; c/o C.I. DISTRIBUIDORA DE SERVICIOS COMBUSTIBLES Y MINERIA S.A., Bogota, Colombia; c/o C.I. OKCOFFEE COLOMBIA S.A., Bogota, Colombia; c/o C.I. OKCOFFEE INTERNATIONAL S.A., Bogota, Colombia; c/o GANADERIA LA SORGUITA S.A., Medellin, Colombia; c/o HOTELES Y BIENES S.A., Bogota, Colombia; c/o INVERPUNTO DEL VALLE S.A., Cali, Colombia; c/o PARQUES TEMATICOS S.A., Medellin, Colombia; c/o PROMO RAIZ S.A., Medellin, Colombia; c/o ROBLE DE MINAS S.A., Medellin, Colombia; c/o TRANSPORTADORA Y COMERCIALIZADORA SYSTOLE S.A.S., Envigado, Antioquia, Colombia; Carrera 41A No. 22 Sur-87, Envigado, Antioquia, Colombia; DOB 4 Nov 1956; POB Yolombo, Antioquia, Colombia; Cedula No. 32524640 (Colombia) (individual) [SDNTK]

9. CIFUENTES VILLA, Teresa de Jesus (a.k.a. CIFUENTES VILLA, Maria Teresa), c/o C.I. DISTRIBUIDORA DE SERVICIOS COMBUSTIBLES Y MINERIA S.A., Bogota, Colombia; c/o RED MUNDIAL INMOBILIARIA, S.A. DE C.V., Huixquilucan, Estado de Mexico, Mexico; c/o ROBLE DE MINAS S.A., Medellin, Colombia; Avenida Xochilt No. 4262-10, Colonia Prados Tepeyac, Zapopan, Jalisco C.P. 45050, Mexico; Privada Paseo de las Montanas No. 100, Colonia Club de Golf Santa Anita, Tlacumulco de Zuniga, Jalisco C.P. 45640, Mexico; DOB 13 Jun 1953; POB Medellin, Colombia; Cedula No. 32505252 (Colombia); C.U.R.P. CIVT530613MNEFLR00 (Mexico); Passport AJ111604 (Colombia); R.F.C. CIVT530613DI0 (Mexico) (individual) [SDNTK]

10. FLOREZ SEPULVEDA, Marco Tulio, Calle 49B No. 74-44 Apto. 401, Medellin, Colombia; DOB 8 Apr 1962; Cedula No. 70300929 (Colombia) (individual) [SDNTK]

11. GALLEGO MARIN, Fabian Rodrigo, c/o IGA LTDA., Itagui, Antioquia, Colombia; c/o RUTA 33 MOTOCICLETAS Y ACCESORIOS LTDA., Medellin, Colombia; Calle 79A Sur No. 46-53, Sabaneta, Antiqouia, Colombia; DOB 25 Aug 1967; Cedula No. 98522962 (Colombia) (individual) [SDNTK]

12. GOMEZ ORTIZ, David, Calle 20 No. 21-54, Pasto, Narino, Colombia; c/o GESTORES DEL ECUADOR GESTORUM S.A., Quito, Ecuador; Avenida de los Estudiantes No. 21-54, Pasto, Narino, Colombia; DOB 14 Aug 1977; POB Pasto, Narino, Colombia; Cedula No. 98398142 (Colombia); alt. Cedula No. 171984116-3 (Ecuador) (individual) [SDNTK]

13. GOMEZ PIQUERAS, Jose Luis, c/o LINEAS AEREAS ANDINAS LINCANDISA S.A., Quito, Ecuador; c/o OBRAS Y PROYECTOS PIQUEHERVA S.L., Madrid, Spain; Calle San Jose, No. 20, Urbanizacion El Berrocal I y II, El Boalo, Mataelpino, Madrid, Spain; DOB 25 May 1941; POB Barcelona, Spain; Passport BC045629 (Spain); Tax ID No. 02681293-E (Spain) (individual) [SDNTK]

14. GOMEZ ZULUAGA, Pablo Alberto, c/o C.I. DISTRIBUIDORA DE SERVICIOS COMBUSTIBLES Y MINERIA S.A., Bogota, Colombia; c/o LINEA AEREA PUEBLOS AMAZONICOS S.A.S., Bogota, Colombia; c/o UNION DE CONSTRUCTORES CONUSA S.A., Bogota, Colombia; Carrera 91A No. 40-63, Medellin, Colombia; DOB 20 Jun 1967; Cedula No. 71685966 (Colombia) (individual) [SDNTK]

15. GONZALEZ JARAMILLO, Juan Fernando, c/o BIO FORESTAL S.A., Medellin, Colombia; c/o ECOVIVERO EL MATORRAL E.U., Medellin, Colombia; Calle 36AA Sur No. 26A-35, Medellin, Colombia; Carrera 48 No. 15 Sur-45, Medellin, Colombia; DOB 5 Nov 1966; POB Medellin, Colombia; Cedula No. 15348215 (Colombia) (individual) [SDNTK]

16. LONDONO RAMIREZ, Juan Pablo Antonio, c/o INTERNETSTATIONS E.U., Medellin, Colombia; c/o MONEDEUX EUROPA S.L., Madrid, Spain; c/o MONEDEUX FINANCIAL SERVICES COLOMBIA LTDA., Bogota, Colombia; c/o MONEDEUX FINANCIAL SERVICES NORTH AMERICA, INC., Miami, FL; c/o MONEDEUX INTERNATIONAL SERVICES INC., Panama City, Panama; c/o MONEDEUX LATIN AMERICA, S. DE R.L. DE C.V., Mexico City, Distrito Federal, Mexico; Carrera 78 No. 34-40, Medellin, Colombia; DOB 15 Feb 1965; POB Manizales, Colombia; Cedula No. 10267976 (Colombia); Passport CC10267976 (Colombia); alt. Passport AJ847440 (Colombia); alt. Passport AI314893 (Colombia); R.F.C. LORJ650215DH1 (Mexico) (individual) [SDNTK]

17. LOPEZ MEJIA, Claudia Estela, c/o DOLPHIN DIVE SCHOOL S.A., Cartagena, Colombia; c/o INVERSIONES CIFUENTES Y CIA. S. EN C., Medellin, Colombia; c/o LE CLAUDE, S.A. DE C.V., Mexico City, Distrito Federal, Mexico; c/o OPERADORA NUEVA GRANADA, S.A. DE C.V., Mexico City, Distrito Federal, Mexico; Camino del Remanso, No. 80 A, Planta Baja, Colonia Lomas Country Club, Huixquilucan, Estado de Mexico C.P. 52779, Mexico; Camino del Remanso No. 80 Interior 2, Colonia Lomas Country Club, Huixquilucan, Estado de Mexico C.P. 52779, Mexico; Tamarindos 105, Colonia Bosques de las Lomas, Naucalpan de Juarez, Estado de Mexico, Mexico; DOB 16 Dec 1972; POB Belen de Umbria, Risaralda, Colombia; Cedula No. 42104723 (Colombia); Passport AK572650 (Colombia) (individual) [SDNTK]

18. MARTINEZ GOMEZ, Milton Geovany; DOB 11 Jul 1972; POB Muzo, Boyaca, Colombia; Cedula No. 11186154 (Colombia) (individual) [SDNTK]

19. MONTOYA ZAPATA, Catalina Alexandra, c/o BIO FORESTAL S.A., Medellin, Colombia; c/o GANADERIA LA SORGUITA S.A., Medellin, Colombia; c/o INVERPUNTO DEL VALLE S.A., Cali, Colombia; c/o PARQUES TEMATICOS S.A., Medellin, Colombia; c/o PROMO RAIZ S.A., Medellin, Colombia; DOB 28 Apr 1985; POB Yarumal, Antioquia, Colombia; Cedula No. 32299453 (Colombia) (individual) [SDNTK]

20. NICHOLLS EASTMAN, Winston, c/o CROSS WINDS, S.A., Panama City, Panama; c/o FEDERAL CAPITAL GROUP, S.A., Panama City, Panama; c/o LINEAS AEREAS ANDINAS LINCANDISA S.A., Quito, Ecuador; DOB 27 Mar 1943; POB Manizales, Colombia; Cedula No. 5199571 (Colombia); Residency Number 172191348-9 (Ecuador) (individual) [SDNTK]

21. PACHECO PARRA, Ana Yesennia (a.k.a. PACHECO CHAVEZ, Ana Yesennia), c/o C.I. OKCOFFEE COLOMBIA S.A., Bogota, Colombia; c/o C.I. OKCOFFEE INTERNATIONAL S.A., Bogota, Colombia; c/o INVERPUNTO DEL VALLE S.A., Cali, Colombia; c/o PARQUES TEMATICOS S.A., Medellin, Colombia; c/o PROMO RAIZ S.A., Medellin, Colombia; Carrera 22A No. 159B-18 P-3, Bogota, Colombia; DOB 22 Feb 1982; POB Miraflores, Boyaca, Colombia; Cedula No. 52866649 (Colombia) (individual) [SDNTK]

22. RAYGOZA CONTRERAS, Ruben, c/o MONTRAY, S.A. DE C.V., Guadalajara, Jalisco, Mexico; Calle Adolfo Lopez Mateos No. 147, Colonia Ampliacion Miguel Hidalgo, Delegacion Tlalpan, Mexico City, Distrito Federal C.P. 14250, Mexico; Calle Minerva No. 358, Colonia Florida, Delegacion Alvaro Obregon, Mexico City, Distrito Federal C.P. 01030, Mexico; Calle Moras No. 833 Interior 102, Colonia Acacias, Delegacion Benito Juarez, Mexico City, Distrito Federal C.P. 03240, Mexico; Calle Plan de San Luis No. 1653, Colonia Mezquitan, Guadalajara, Jalisco C.P. 44260, Mexico; Prolongacion Manuel Avila Camacho No. 129, Colonia Hermosa Provincia, Puerto Vallarta, Jalisco C.P. 48348, Mexico; DOB 17 Mar 1970; POB Guadalajara, Jalisco, Mexico; C.U.R.P. RACR700317HJCYNB09 (Mexico); R.F.C. RACR700317N34 (Mexico) (individual) [SDNTK]

23. RESTREPO ZAPATA, Milvia Yaneth (a.k.a. RESTREPO ZAPATA, Milvia Janeth), c/o BIO FORESTAL S.A., Medellin, Colombia; c/o C.I. OKCOFFEE COLOMBIA S.A., Bogota, Colombia; c/o C.I. OKCOFFEE INTERNATIONAL S.A., Bogota, Colombia; c/o FUNDACION OKCOFFEE COLOMBIA, Bogota, Colombia; c/o FUNDACION PARA EL BIENESTAR Y EL PORVENIR, Medellin, Colombia; c/o HOTELES Y BIENES S.A., Bogota, Colombia; c/o INVERPUNTO DEL VALLE S.A., Cali, Colombia; c/o PROMO RAIZ S.A., Medellin, Colombia; c/o UNION DE CONSTRUCTORES CONUSA S.A., Bogota, Colombia; Carrera 112 GT No. 86B-60, Bogota, Colombia; DOB 13 Dec 1973; Cedula No. 43825354 (Colombia) (individual) [SDNTK]

24. ROLDAN CARDONA, Ana Patricia, c/o DOLPHIN DIVE SCHOOL S.A., Cartagena, Colombia; c/o HOTELES Y BIENES S.A., Bogota, Colombia; c/o LINEA AEREA PUEBLOS AMAZONICOS S.A.S., Bogota, Colombia; Calle 5A No. 43A-73, Medellin, Colombia; DOB 5 Dec 1969; POB Yarumal, Antioquia, Colombia; Cedula No. 43723334 (Colombia) (individual) [SDNTK]

25. ROLL CIFUENTES, Jaime Alberto, c/o C.I. GLOBAL INVESTMENTS S.A., Medellin, Colombia; c/o HOTELES Y BIENES S.A, Bogota, Colombia; DOB 15 Mar 1979; POB Medellin, Colombia; Cedula No. 98667284 (Colombia) (individual) [SDNTK]

26. SANCHEZ PUENTES, Yenny Mabel, c/o DOLPHIN DIVE SCHOOL S.A., Cartagena, Colombia; c/o INVERPUNTO DEL VALLE S.A., Cali, Colombia; Calle 140 No. 6-30 Int. 9 Ap. 201, Bogota, Colombia; Calle 187 54-55 Int. 21 Ap. 201, Bogota, Colombia; DOB 19 Dec 1967; POB Otanche, Boyaca, Colombia; Cedula No. 51908699 (Colombia); Passport AH982263 (Colombia) (individual) [SDNTK]

27. VARGAS CIFUENTES, Edmon Felipe, c/o C.I. GLOBAL INVESTMENTS S.A., Medellin, Colombia; c/o HOTELES Y BIENES S.A., Bogota, Colombia; c/o PROMO RAIZ S.A., Medellin, Colombia; Zapopan, Jalisco, Mexico; DOB 19 Aug 1978; POB Medellin, Colombia; Cedula No. 79934460 (Colombia); C.U.R.P. VACE780819HNERFD01 (Mexico); Passport AI999013 (Colombia) (individual) [SDNTK]

28. VARGAS CIFUENTES, Paula Andrea, c/o C.I. GLOBAL INVESTMENTS S.A., Medellin, Colombia; c/o HOTELES Y BIENES S.A., Bogota, Colombia; c/o INVERPUNTO DEL VALLE S.A., Cali, Colombia; c/o PARQUES TEMATICOS S.A., Medellin, Colombia; Boulevard Bugambilias No. 2114, Ciudad Bugambilias, Zapopan, Jalisco, Mexico; DOB 23 May 1976; POB Medellin, Colombia; C.U.R.P. VACP760523MNERFL00 (Mexico); Cedula No. 66973070 (Colombia); Passport AK715253 (Colombia) (individual) [SDNTK]

29. VILLA DE CIFUENTES, Carlina, c/o FUNDACION OKCOFFEE COLOMBIA, Bogota, Colombia; c/o FUNDACION PARA EL BIENESTAR Y EL PORVENIR, Medellin, Colombia; c/o ROBLE DE MINAS S.A., Medellin, Colombia; Calle 7D No. 43C-95, Medellin, Colombia; Calle 18B Sur No. 36-35 Apto. 603, Medellin, Colombia; Carrera 41 No. 6B Sur-9, Medellin, Colombia; DOB 30 Aug 1934; POB Yolombo, Antioquia, Colombia; Cedula No. 21342467 (Colombia) (individual) [SDNTK]

30. YELINEK, Shimon Yalin (a.k.a. YELINKE, Shimon), c/o CROCKER JEANS CORP. S.A., Panama City, Panama; c/o CROCKER JEANS STATION CORPORATION, Panama City, Panama; c/o FOX FASHION, S.A., Panama City, Panama; DOB 23 Jan 1961; POB Israel; Cedula No. E-8-92856 (Panama); Passport 9023900 (Israel) (individual) [SDNTK]

Foreign Entities

1. BIO FORESTAL S.A. (a.k.a. BIOFORESTAL S.A.), Autopista Bogota-Medellin Km. 7, Parque Industrial Celta Lote 41 Bodega 8, Funza, Cundinamarca, Colombia; Calle 7 Sur No. 42-70 Of. 1205, Medellin, Colombia; Finca Casa Blanca, Arboletes y Necoli, Antioquia, Colombia; Finca La Cana, Cordoba, Colombia; Finca San Luis, Monteria, Cordoba, Colombia; Finca Toldas, Guarne, Antioquia, Colombia; La Sorguita, Jerico, Antioquia, Colombia; NIT # 811038709-1 (Colombia) [SDNTK]

2. C.I. DISTRIBUIDORA DE SERVICIOS COMBUSTIBLES Y MINERIA S.A. (a.k.a. C.I. DISERCOM S.A.; a.k.a. DISERCOM S.A.; f.k.a. DISTRIBUIDORA DE SERVICIOS Y COMBUSTIBLES S.A.), Autopista Bogota-Medellin Km. 7, Parque Industrial Celta Lote 41 Bodega 8, Funza, Cundinamarca, Colombia; Avenida Carrera 9 No. 113-52 Ofc. 401, Bogota, Colombia; Carrera 13 No. 29-21, Manzana 1 Oficina 401, Bogota, Colombia; Carrera 13 No. 29-21, Manzana 1 Oficina 401, Bogota, Colombia; NIT # 830046009-5 (Colombia) [SDNTK]

3. C.I. GLOBAL INVESTMENTS S.A., Carrera 48 No. 38-46, Medellin, Colombia; NIT # 811039750-7 (Colombia) [SDNTK]

4. C.I. METALURGIA EXTRACTIVA DE COLOMBIA S.A.S. (a.k.a. C.I. METEXCOL S.A.S.), Carrera 86 No. 13A-66, Bogota, Colombia; NIT # 900389216-9 (Colombia) [SDNTK]

5. C.I. OKCOFFEE COLOMBIA S.A., Autopista Bogota-Medellin Km. 7, Parque Industrial Celta Lote 41 Bodega 8, Funza, Cundinamarca, Colombia; Avenida Carrera 9 No. 113-52 Ofc. 402, Bogota, Colombia; NIT # 830124959-1 (Colombia) [SDNTK]

6. C.I. OKCOFFEE INTERNATIONAL S.A., Autopista Bogota-Medellin Km. 7, Parque Industrial Celta Lote 41 Bodega 8, Funza, Cundinamarca, Colombia; Avenida Carrera 9 No. 113-52 Ofc. 401, Bogota, Colombia; NIT # 900060391-6 (Colombia) [SDNTK]

7. CIFUENTES URIBE Y CIA. S.C.S., Calle 16C No. 42-70, Medellin, Colombia; NIT # 811036756-7 (Colombia) [SDNTK]

8. CROCKER JEANS CORP. S.A., Panama City, Panama; RUC # 721135-1-473097 (Panama) [SDNTK]

9. CROCKER JEANS STATION CORPORATION, Panama City, Panama; RUC # 744528-1-478564 (Panama) [SDNTK]

10. CROSS WINDS, S.A., Panama City, Panama; RUC # 1303425-1-607081-77 (Panama) [SDNTK]

11. CUBI CAFE CLICK CUBE MEXICO, S.A. DE C.V., Montecito No. 38 Piso 21 Of. 29, Col. Napoles, Deleg. Benito Juarez, Mexico City, Distrito Federal C.P. 03810, Mexico; R.F.C. CCC-070201-4W7 (Mexico) [SDNTK]

12. CUBICAFE S.A. (a.k.a. OK COFFEE), Avenida Carrera 9 No. 113-52 Ofc. 401, Bogota, Colombia; Calle 65 Bis No. 89A-73, Bogota, Colombia; Autopista Bogota-Medellin Km. 7, Parque Industrial Celta Lote 41 Bodega 8, Funza, Cundinamarca, Colombia; NIT # 830136426-1 (Colombia) [SDNTK]

13. DESARROLLO MINERO RESPONSABLE C.I. S.A.S. (a.k.a. DMR C.I. S.A.S.), Avenida Carrera 9 No. 113-52 Of. 401, Bogota, Colombia; NIT # 900386627-9 (Colombia) [SDNTK]

14. DOLPHIN DIVE SCHOOL S.A., Calle Jardin No 39-45, Cartagena, Colombia; Isla Pavito, Cartagena, Colombia; NIT # 806008379-6 (Colombia) [SDNTK]

15. ECOVIVERO EL MATORRAL E.U., Calle 36AA Sur No. 26A-35, Envigado, Antioquia, Colombia; Carrera 48 No. 15 Sur-45, Medellin, Colombia; NIT # 811027555-5 (Colombia) [SDNTK]

16. FEDERAL CAPITAL GROUP, S.A. (f.k.a. GARIZIM CAPITAL GROUP, S.A.), Panama City, Panama; RUC # 1149963-1-571540 (Panama) [SDNTK]

17. FOX FASHION, S.A. (a.k.a. FOX KIDS & BABY; a.k.a. FOX MEN & WOMEN), Albrook Mall, Local 47-B, Panama City, Panama; Multiplaza, Local 207, Panama City, Panama; Albrook Mall, Local Q-20, Panama City, Panama; RUC # 699492-1-468385-12 (Panama) [SDNTK]

18. FUNDACION OKCOFFEE COLOMBIA, Avenida Carrera 9 No. 113-52 Ofc. 401, Bogota, Colombia; NIT # 900311507-1 (Colombia) [SDNTK]

19. FUNDACION PARA EL BIENESTAR Y EL PORVENIR (a.k.a. FUNPORVENIR), Calle 6 No. 32-39, Medellin, Colombia; NIT # 900310323-9 (Colombia) [SDNTK]

20. FUNDACION SALVA LA SELVA, Avenida Carrera 9 No. 113-52 Ofc. 401, Bogota, Colombia; NIT # 900390392-9 (Colombia) [SDNTK]

21. GANADERIA LA SORGUITA S.A. (a.k.a. LA SORGUITA S.A.), Calle 16 Sur No. 46A-49 Piso 6, Medellin, Colombia; NIT # 800220730-4 (Colombia) [SDNTK]

22. GESTORES DEL ECUADOR GESTORUM S.A., Av. de los Shyris No. 35-174, Barrio Suecia, Quito, Ecuador; RUC # 1792141214001 (Ecuador) [SDNTK]

23. HOTELES Y BIENES S.A. (a.k.a. HOTEL NUEVA GRANADA), Avenida Jimenez No. 4-77, Bogota, Colombia; Avenida Calle 13 No. 4- 77, Bogota, Colombia; Avenida Carrera 9 No. 113-52 Ofc. 401, Bogota, Colombia; NIT # 830092519-5 (Colombia) [SDNTK]

24. IGA LTDA., Carrera 47 No. 66-127, Itagui, Antioquia, Colombia; NIT # 811033126-3 (Colombia) [SDNTK]

25. INTERNETSTATIONS E.U., Carrera 43A No. 15 Sur-15 Ofc. 802, Medellin, Colombia; NIT # 900071164-8 (Colombia) [SDNTK]

26. INVERPUNTO DEL VALLE S.A., Calle 4 No. 6-02, Cali, Colombia; NIT # 805024892-7 (Colombia) [SDNTK]

27. INVERSIONES CIFUENTES Y CIA. S. EN C., Calle 7 Sur No. 42-70 Of. 1205, Medellin, Colombia; NIT # 811008928-8 (Colombia) [SDNTK]

28. LE CLAUDE, S.A. DE C.V., Calle Miguel E. Shultz No. 127, Colonia San Rafael, Delegacion Cuauhtemoc, Mexico City, Distrito Federal C.P. 06470, Mexico; R.F.C. LCL020619C14 (Mexico) [SDNTK]

29. LINEA AEREA PUEBLOS AMAZONICOS S.A.S. (a.k.a. LAPA S.A.S.), Mitu, Vaupes, Colombia; Villavicencio, Colombia; Avenida Carrera 9 No. 113-52 Ofc. 401, Bogota, Colombia; NIT # 900377739-7 (Colombia) [SDNTK]

30. LINEAS AEREAS ANDINAS LINCANDISA S.A. (a.k.a. LINCANDISA S.A.), Av. de los Shyris No. 35-174, Barrio Suecia, Quito, Ecuador; RUC # 1792136652001 (Ecuador) [SDNTK]

31. MONEDEUX EUROPA S.L., Calle Pinar, 5, Madrid 28006, Spain; C.I.F. B85375434 (Spain) [SDNTK]

32. MONEDEUX FINANCIAL SERVICES COLOMBIA LTDA., Calle 100 No. 8A-55 P 10, Bogota, Colombia; NIT # 900112718-5 (Colombia) [SDNTK]

33. MONEDEUX INTERNATIONAL SERVICES INC., Panama City, Panama; RUC # 895887-1-513925 (Panama) [SDNTK]

34. MONEDEUX LATIN AMERICA, S. DE R.L. DE C.V. (f.k.a. IKIOSKOS DE MEXICO, S. DE R.L. DE C.V.), Avenida Santa Fe No. 495, Piso 4, Colonia Cruz Manca, Delegacion Cuajimalpa de Morelos, Mexico City, Distrito Federal C.P. 05349, Mexico; R.F.C. MLA010125E38 (Mexico); alt. R.F.C. IME010125C31 (Mexico) [SDNTK]

35. MONTRAY, S.A. DE C.V., Calle Jaime Nuno No. 1291-B, Colonia Chapultepec Country, Guadalajara, Jalisco C.P. 44620, Mexico; R.F.C. MON060123J62 (Mexico) [SDNTK]

36. OBRAS Y PROYECTOS PIQUEHERVA S.L., Calle de San Jose, 20, El Boalo, Madrid 28413, Spain; C.I.F. B84244748 (Spain) [SDNTK]

37. OPERADORA NUEVA GRANADA, S.A. DE C.V., Avenida 13 No. 4-77, Bogota, Colombia; Mexico City, Distrito Federal, Mexico; Folio Mercantil No. 293481 Distrito Federal (Mexico) [SDNTK]

38. PARQUES TEMATICOS S.A. (a.k.a. HACIENDA HOTEL EL INDIO), Calle 16C Sur No. 42-70, Apto. 502, Medellin, Colombia; Vereda la Playita, Barbosa, Antioquia, Colombia; NIT # 811035877-5 (Colombia) [SDNTK]

39. PROMO RAIZ S.A., Calle 7 Sur No. 42-70 Of. 1205, Medellin, Colombia; NIT # 811035904-6 (Colombia) [SDNTK]

40. RED MUNDIAL INMOBILIARIA, S.A. DE C.V., Calle Montecito No. 38, Piso 21, Colonia Napoles, Delegacion Benito Juarez, Mexico City, Distrito Federal C.P. 03810, Mexico; Av. Parques de Granada No. 32-405, Col. Parques de la Herradura, Huixquilucan, Estado de Mexico, Mexico; R.F.C. RMI020130JB9 (Mexico) [SDNTK]

41. ROBLE DE MINAS S.A., Calle 18B Sur No. 36-35 Apto. 1603, Medellin, Colombia; Calle 75 Carrera 77E, Medellin, Colombia; NIT # 811043722-6 (Colombia) [SDNTK]

42. RUTA 33 MOTOCICLETAS Y ACCESORIOS LTDA., Avenida 33 No. 66B-134, Medellin, Colombia; NIT # 900105312-1 (Colombia) [SDNTK]

43. TRANSPORTADORA Y COMERCIALIZADORA SYSTOLE S.A.S., Calle 6A No. 22-46 Apto. 1104, Medellin, Colombia; Carrera 41A No. 22 Sur-87 Apto. 510, Envigado, Antioquia, Colombia; NIT # 900184013-1 (Colombia) [SDNTK]

44. UNION DE CONSTRUCTORES CONUSA S.A., Apartamentos Life, Medellin, Colombia; Avenida Carrera 9 No. 113-52 Ofc. 401, Bogota, Colombia; Boca Salinas, Santa Marta, Colombia; Calle 74 No. 10-33, Mirador del Moderno, Bogota, Colombia; Carrera 68D No. 258-86 Of. 504 Torre Central, Bogota, Colombia; Haciendas de Potrerito, Cali, Colombia; Isla Pavito, Cartagena, Colombia; Transversal 1B Este No. 7A-20 Sur, Buenos Aires Etapa II, Bogota, Colombia; NIT # 800226431-4 (Colombia) [SDNTK]

U.S. Entity Identified as Blocked Property

1. MONEDEUX FINANCIAL SERVICES NORTH AMERICA, INC., Miami, FL; Business Registration Document # P05000069290; US FEIN 205487820 [SDNTK]

Dated: February 23, 2011.
Adam J. Szubin,
Director, Office of Foreign Assets Control.

[FR Doc. 2011-4602 Filed 3-1-11; 8:45 am]

BILLING CODE 4810-AL-P